DEPARTMENT OF ENERGY

Blue Ribbon Commission on America's Nuclear Future, Reactor and Fuel Cycle Technology Subcommittee

AGENCY: Department of Energy, Office of Nuclear Energy.

ACTION: Notice of open meeting.

SUMMARY: This notice announces an open meeting of the Reactor and Fuel Cycle Technology (RFCT) Subcommittee. The RFCT Subcommittee is a subcommittee of the Blue Ribbon Commission on America's Nuclear Future (the Commission). The establishment of subcommittees is authorized in the Commission's charter. The Commission was organized pursuant to the Federal Advisory Committee Act (Pub. L. 92-463, 86 Stat. 770) (the Act). This notice is provided in accordance with the Act.

DATES: Monday, August 30, 2010, 8 a.m.-3:30 p.m.; Tuesday, August 31, 2010, 8 a.m.-4:15 p.m.

ADDRESSES: Washington Marriott Hotel, 1221 22nd Street, NW., Washington, DC.

FOR FURTHER INFORMATION CONTACT: Timothy A. Frazier, Designated Federal Officer, U.S. Department of Energy, 1000 Independence Avenue, SW., Washington, DC 20585; telephone (202) 586-4243 or facsimile (202) 586-0544; e-mail CommissionDFO@nuclear.energy.gov. Additional information will be available at http://www.brc.gov.

SUPPLEMENTARY INFORMATION: Background: The President directed that the Commission be established to conduct a comprehensive review of policies for managing the back end of the nuclear fuel cycle. The Commission will provide advice and make recommendations on issues including alternatives for the storage, processing, and disposal of civilian and defense spent nuclear fuel and nuclear waste.

The Co-chairs of the Commission requested the formation of the RFCT Subcommittee to answer the question: “[d]o technical alternatives to today's once-through fuel cycle offer sufficient promise to warrant serious consideration and R&D investment, and do these technologies hold significant potential to influence the way in which used fuel is stored and disposed?”

Purpose of the Meeting: The meeting will primarily focus on commercial technology options for reactor and fuel cycle technologies and what actions could be taken to enable first movers in these technologies. This meeting will also address the role local communities and governments should play in the development and demonstration of new nuclear technologies and the key safety, environmental and security concerns for local communities, and how these concerns should be addressed. Additionally the meeting will also address issues of the U.S. manufacturing sector and the labor force's ability to support new reactor and fuel cycle technologies.

Tentative Agenda: The meeting is expected to start at 8 a.m. on August 30th with panel presentations beginning at 8:15 and ending at 3:30 p.m. The meeting is expected to reconvene at 8 a.m. on August 31st with panel presentations through 3 p.m., with a public comment period from 3 p.m. through 4 p.m.

Public Participation: Subcommittee meetings are not required to be open to the public; however, the Commission has elected to open the presentation sessions of the meeting to the public. Individuals and representatives of organizations who would like to offer comments and suggestions may do so at the end of the public session on Tuesday, August 31, 2010. Approximately 1 hour will be reserved for public comments from 3 p.m. to 4 p.m. Time allotted per speaker will depend on the number who wish to speak but will not exceed 5 minutes. The Designated Federal Officer is empowered to conduct the meeting in a fashion that will facilitate the orderly conduct of business. Those wishing to speak should register to do so beginning at 7:30 a.m. on August 31, 2010, at the Washington Marriott. Registration to speak will close at noon, August 31, 2010.

Those not able to attend the meeting or have insufficient time to address the subcommittee are invited to send a written statement to Timothy A. Frazier, U.S. Department of Energy, 1000 Independence Avenue, SW., Washington DC 20585, e-mail to CommissionDFO@nuclear.energy.gov, or post comments on the Commission Web site at http://www.brc.gov.

Additionally, the meeting will be available via live video webcast. The link will be available at http://www.brc.gov.

Minutes: The minutes of the meeting will be available at http://www.brc.gov or by contacting Mr. Frazier. He may be reached at the postal address or e-mail address above.

Issued in Washington, DC on August 12, 2010.
Rachel Samuel,
Deputy Committee Management Officer.

[FR Doc. 2010-20432 Filed 8-17-10; 8:45 am]

BILLING CODE 6450-01-P